DEPARTMENT OF TRANSPORTATION

Federal Motor Carrier Safety Administration

[Docket No. FMCSA- 2019-0271]

Agency Information Collection Activities; Renewal of an Approved Information Collection: Accident Recordkeeping Requirements

AGENCY: Federal Motor Carrier Safety Administration (FMCSA), Transportation (DOT).

ACTION: Notice and request for comments.

SUMMARY: In accordance with the Paperwork Reduction Act of 1995, FMCSA announces its plan to submit the Information Collection Request (ICR) described below to the Office of Management and Budget (OMB) for its review and approval. FMCSA requests approval to renew the ICR titled “Accident Recordkeeping Requirements.” This ICR relates to Agency requirements that motor carriers maintain a record of accidents involving their commercial motor vehicles (CMVs). Motor carriers are not required to report this data to FMCSA, but must produce it upon inquiry by authorized Federal, State or local officials.

DATES: Please send your comments by September 17, 2020. OMB must receive your comments by this date in order to act quickly on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Ms. Pearlie Robinson, Driver and Carrier Operations Division, DOT, FMCSA, West Building 6th Floor, 1200 New Jersey Avenue SE, Washington, DC 20590. Telephone: 202-366-4325. Email: MCPSD@dot.gov.

SUPPLEMENTARY INFORMATION:

Title: Accident Recordkeeping Requirements.

OMB Control Number: 2126-0009.

Type of Request: Renewal of a currently approved collection.

Respondents: Motor carriers.

Estimated Number of Respondents: 89,270.

Estimated Number of Responses: 184,749.

Estimated Time per Response: 18 minutes.

Expiration Date: September 30, 2020.

Frequency of Response: On occasion.

Estimated Total Annual Burden: 55,425 burden hours (184,749 accidents × 18 minutes per response/60 minutes in an hour = 55,425 hours).

Definitions: “Accident” is an occurrence involving a CMV operating on a highway in interstate or intrastate commerce that results in (1) a fatality; (2) bodily injury to a person who, as a result of the injury, receives medical treatment away from the scene of the accident; or (3) one or more motor vehicles incurring disabling damage as a result of the accident, requiring the motor vehicle(s) to be transported away from the scene by a tow truck or other motor vehicle. The term accident does not include (i) an occurrence involving only boarding or alighting from a stationary motor vehicle, or (ii) an occurrence involving only the loading or unloading of cargo (49 CFR 390.5).

Background

Title 49 of the Code of Federal Regulations, Section 390.15(b), requires motor carriers to make certain specified records and information pertaining to CMV accidents available to an authorized representative or special agent of FMCSA upon request or as part of an inquiry. Motor carriers are required to maintain an “accident register” consisting of information concerning all “accidents” involving their CMVs (49 CFR 390.15(b) (see “Definition: Accident” below). The following information must be recorded for each accident: Date, location, driver name, number of injuries, number of fatalities, and whether certain dangerous hazardous materials were released. In addition, the motor carrier must maintain copies of all accident reports required by insurers or governmental entities. Motor carriers must maintain this information for three years after the date of the accident. Section 390.15 does not require motor carriers to submit any information or records to FMCSA or any other party.

This ICR supports the DOT strategic goal of safety. By requiring motor carriers to gather and record information concerning CMV accidents, FMCSA is strengthening its ability to assess the safety performance of motor carriers. This information is a valuable resource in Agency initiatives to prevent, and reduce the severity of, CMV crashes.

The Agency has modified several of its estimates for this ICR. The estimated number of annual respondents has decreased substantially, while the numbers of responses, burden hours, and annual costs to respondents have increased. Explanations for these changes are summarized below.

The previously-approved number of annual respondents is 866,122. This estimate was based on records of all interstate and intrastate motor carriers with “recent activity” in the Motor Carrier Management Information System (MCMIS) for calendar year 2015. However, not all of these motor carriers experience a DOT-reportable crash every calendar year. To more accurately estimate the annual number of respondents, we looked at the carriers associated with crashes reported in MCMIS for calendar years 2016 through 2018 and calculated the annual average. This gave us a significantly reduced estimate of 89,270 respondents per year.

The previously-approved burden is 36,157 burden hours. The Agency increases its estimate to 55,425 burden hours. The text of section 390.15(b) is unchanged; the increase in burden hours does not reflect changes in the requirements for accident recordkeeping. The adjustment in annual burden hours is due to a revised estimate of the number of reportable accidents from 120,522 to 184,749 per year, using interstate and intrastate DOT-reportable motor carrier crash records in MCMIS for calendar years 2016 through 2018. In the previous iteration of this ICR, only crash records for calendar year 2015 were considered, and only crashes for carriers with a DOT number and “recent activity” in MCMIS were included. In the current iteration of this ICR, we include recorded crashes in which there is not a recorded DOT number, but the CRASH_CARRIER_INTERSTATE field in MCMIS is coded as “Interstate” or “Intrastate” (thus suggesting that they are commercial carriers). This change in approach has resulted in an increased estimate of annual crashes subject to the Accident Register reporting requirements, and thus an increase in the number of responses, as each crash is associated with one response.

The revised version of this ICR includes estimated labor costs associated with maintaining the Accident Register. The previous iteration of this ICR did not include such an estimate; it only reported the estimated annual burden hours. The estimated annual labor cost for industry resulting from the Accident Register reporting requirements is $1,860,617.

Finally, the estimated annual cost associated with accident recordkeeping (outside of labor costs) is increased from $8,437 to $106,785. In the previous iteration of this ICR, it was assumed that all motor carriers were storing hard copy records offsite, which is less costly than storing hard copy records onsite due to reduced space requirements. In the current iteration of this ICR, FMCSA is assuming that (1) approximately 15 percent of motor carriers are storing their Accident Registers electronically, at no extra cost, and (2) approximately 85 percent of motor carriers are storing hard copy versions of their Accident Registers. FMCSA is further assuming that motor carriers that maintain paper records are storing their Accident Registers at their principal place of business, so that they have easy access to such records during an FMCSA investigation. This change in storage location increases the cost of storage, from $0.07 to $0.68 per accident recorded. While FMCSA is now assuming that some motor carriers are storing documents electronically at no extra cost, the overall number of responses has increased over prior years, overtaking the reduction in number of carriers storing hard copy records.

On April 28, 2020, FMCSA published a Federal Register notice allowing for a 60-day comment period on this ICR. Two comments were received in response to this notice. The first respondent, Denise Quinehan, reported that she was involved in a level 4 motorcycle accident in 2016 and the driver that hit her had no insurance or registration. Four years after the accident she found that the reporting officer altered the crash report and that report was being used in other claims that resulted in identity fraud. She wrote that some limits of reports should not be released until the involved party has access to it. Second, the National Motor Freight Traffic Association, Inc. concluded that “FMCSA will benefit from greater use of accident information, such as police accident reports, that support greater accuracy and fairer portrayal of a carrier's safety practices. FMCSA could more effectively use its enforcement resources if it can better identify motor carriers who bore responsibility for commercial motor vehicle accidents.” Neither of the respondents addressed whether the proposed collection is necessary for the performance of FMCSA's functions; the accuracy of the estimated burden; nor the ways the burden could be minimized without reducing the quality of the collected information.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

The agency will summarize or include your comments in the request for OMB's clearance of this information collection.

Issued under the authority of 49 CFR 1.87.
Kenneth Riddle,
Acting Associate Administrator, Office of Research and Registration.

[FR Doc. 2020-18013 Filed 8-17-20; 8:45 am]

BILLING CODE 4910-EX-P